DEPARTMENT OF JUSTICE

Bureau of Alcohol, Tobacco, Firearms, and Explosives

27 CFR Parts 478 and 479

[ATF-2021-0001; Docket No. ATF 2021R-05F; AG Order No. 5374-2022]

RIN 1140-AA54

Definition of “Frame or Receiver” and Identification of Firearms; Corrections

AGENCY: Bureau of Alcohol, Tobacco, Firearms, and Explosives, Department of Justice.

ACTION: Final rule; corrections.

SUMMARY: The Department of Justice (“Department”) is correcting a final rule that appeared in the Federal Register on April 26, 2022, with an effective date of August 24, 2022. The final rule amended Bureau of Alcohol, Tobacco, Firearms, and Explosives (“ATF”) regulations by removing and replacing the regulatory definitions of “firearm frame or receiver” and “frame or receiver.” The document also amended ATF's definitions of “firearm” and “gunsmith” to clarify the meaning of those terms, and to provide definitions of terms such as “complete weapon,” “complete muffler or silencer device,” “multi-piece frame or receiver,” “privately made firearm,” and “readily” for purposes of clarity given advancements in firearms technology. Additionally, the final rule amended ATF's regulations on marking and recordkeeping that are necessary to implement the new or amended definitions. This document makes some minor technical corrections to the final rule, which otherwise remains the same as previously published.

DATES: Effective August 24, 2022.

FOR FURTHER INFORMATION CONTACT: Kimberly Keravuori by email at ORA@atf.gov; by mail at Office of Regulatory Affairs, Enforcement Programs and Services, Bureau of Alcohol, Tobacco, Firearms, and Explosives, U.S. Department of Justice, 99 New York Ave. NE, Washington, DC 20226; or by telephone at (202) 648-7070 (this is not a toll-free number).

SUPPLEMENTARY INFORMATION: On April 26, 2022, the Department issued a final rule titled “Definition of `Frame or Receiver' and Identification of Firearms,” amending ATF's regulations in 27 CFR parts 447, 478, and 479 (87 FR 24652), with an effective date of August 24, 2022.

Due to the complexity of this rulemaking process and the resulting significant number of comments and revisions in response, the final rule inadvertently contained some technical errors in the regulatory text that this document corrects. As reflected below, this document corrects the following technical errors in the regulatory text as adopted in the final rule:

• Incorrectly labeling subparagraphs in § 479.102(a)(3) and (b)(3) with letters instead of Roman numerals.

• Omitting part of the Federal Register date instruction in § 478.12(f)(2), with the result that the rule as published contained the instruction parenthetical instead of the actual date.

• Causing confusion by including the word “and” between two terms describing handgun grips in § 478.12(a)(3), instead of indicating that the second term was an example of the first term.

• Leaving out a reference to the manufacturer role of people identified as “you” in § 479.102(a)(6), and leaving out the words “or remade” in the phrase “remanufactured or remade” in the definition of “Privately made firearm (PMF)” in § 478.11. In both instances, these omissions could create confusion about the actors in those provisions.

• Failing to replace the term “firearm” with “frame or receiver” in the last sentence of the definition of “Importer's or manufacturer's serial number” in § 478.11, as intended, thus unintentionally broadening the requirement to preserve the licensee name, city, or state wherever it may appear on a fully assembled weapon. Instead, the purpose of this provision is to require preservation of the licensee name, city, or state only on the frame or receiver of any such weapon.

• Failing to include a cross-reference to the definition of “privately made firearm” in § 479.11, potentially creating inconsistencies between the regulations.

• Failing to replace a broad reference in § 478.125(i) to requirements “in this part” with the specific section reference to the timeframe required by § 478.125(e) for firearms that better identifies and clarifies those requirements for users.

• And, in four paragraphs, §§ 478.12(a)(1), (a)(4)(iv), and (d) and 478.92(a)(1)(iii), inadvertently indicating that a sear (or equivalent) component was the primary energized component of a handgun as a result of the placement of the terms in relation to each other, also creating confusion for readers.

This document corrects those technical errors before the final rule's effective date.

§ 478.11 [Corrected]

1. On page 24735, in the first column, the definition of “Importer's or manufacturer's serial number” is corrected by removing the last word “firearm” and adding in its place the words “frame or receiver”.

2. On page 24735, in the seventh line of the second column, the definition of “Privately made firearm (PMF)” is corrected in the parenthetical at the end by adding the words “or remade” after the word “remanufactured”.

3. On page 24735, in the third column, § 478.12 is corrected by revising paragraph (a)(1) and the second sentence in paragraph (a)(3) to read as follows:

§ 478.12 [Corrected]

(a) * * *

(1) The term “frame” means the part of a handgun, or variants thereof, that provides housing or a structure for the component (i.e., sear or equivalent) designed to hold back the hammer, striker, bolt, or similar primary energized component prior to initiation of the firing sequence, even if pins or other attachments are required to connect such component (i.e., sear or equivalent) to the housing or structure.

* * * * *

(3) * * * For example, an AK-type firearm with a short stock (i.e., pistol grip) is a pistol variant of an AK-type rifle, an AR-type firearm with a short stock (i.e., pistol grip) is a pistol variant of an AR-type rifle, and a revolving cylinder shotgun is a shotgun variant of a revolver.

* * * * *

4. On page 24736, in the second column, § 478.12(a)(4)(iv) is corrected at the end of the paragraph by removing the words “energized component (i.e., sear or equivalent)” and adding in their place the words “sear or equivalent component”.

5. On page 24739, in the third column, in line 3, § 478.12(d) is corrected by removing the word “energized” and adding in its place the words “sear or equivalent”.

6. On page 24741, in the first column, § 478.12(f)(2) is corrected at the end of the last sentence by removing “[date of publication of the rule]” and adding in its place “April 26, 2022”.

§ 478.92 [ Corrected]

7. On page 24741, in the third column, in line 2, § 478.92(a)(1)(iii) is corrected by removing the words “primary energized” and adding in their place the words “sear or equivalent”.

§ 478.125 [Corrected]

8. On page 24746, in the first column, § 478.125(i) is corrected at the end of the first sentence by removing the words “as required by this part” and adding in their place “within the timeframe required by paragraph (e) of this section for firearms”.

9. On page 24747, in the first column, amendatory instruction 18c for § 479.11 is corrected to read “c. Add in alphabetical order definitions for “Privately made firearm (PMF)” and “Readily”;”. The correctly added definition of “Privately made firearm (PMF)” reads as follows:

§ 479.11 [Corrected]

* * * * *

Privately made firearm (PMF). The term “privately made firearm (PMF)” shall have the same meaning as in § 478.11 of this subchapter.

* * * * *

§ 479.102 [Corrected]

10. On page 24747, in the third column, § 479.102(a)(3) is corrected by redesignating paragraphs (a)(3)(A), (B), and (C) as paragraphs (a)(3)(i), (ii), and (iii).

11. On page 24748, in the first column, § 479.102(a)(6) is corrected in the first sentence by adding “, as a manufacturer,” in between the words “You” and “shall”.

12. On page 24748, in the second column, § 479.102(b)(3) is corrected by redesignating paragraphs (b)(3)(A), (B), and (C) as paragraphs (b)(3)(i), (ii), and (iii).

Dated: August 12, 2022.
Laura E. Heim,
Senior Counsel.

[FR Doc. 2022-17741 Filed 8-19-22; 8:45 am]

BILLING CODE 4410-FY-P